DEPARTMENT OF THE INTERIOR

Office of the Secretary

Secretarial Commission on Indian Trust Administration and Reform Meeting Cancellation

AGENCY: Office of the Secretary, Interior.

ACTION: Notice of meeting cancellation.

SUMMARY: The meeting of the Secretarial Commission on Indian Trust Administration and Reform (the Commission) scheduled for December 6, 2012, from 8 a.m. to 5 p.m. and December 7, 2012, from 8 a.m. to 4 p.m. is cancelled. The Commission's public youth outreach session scheduled for December 6, 2012, from 7 p.m. to 9 p.m. is also cancelled. Notice of this meeting was published in the November 14, 2012, issue of the Federal Register (77 FR 67827).

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION: The Secretarial Commission on Indian Trust Administration and Reform was established under Secretarial Order No. 3292, dated December 8, 2009. The Commission plays a key role in the Department's ongoing efforts to empower Indian nations and strengthen nation-to-nation relationships. Future meetings will be announced through a separate notice in the Federal Register. The meetings cancelled by this notice will be rescheduled for a later date.

Dated: November 20, 2012.
David J. Hayes,
Deputy Secretary.

[FR Doc. 2012-28691 Filed 11-26-12; 8:45 am]

BILLING CODE 4310-W7-P